DEPARTMENT OF DEFENSE

Office of the Secretary

Membership of the Performance Review Board

AGENCY: Defense Finance and Accounting Service (DFAS), DoD.

ACTION: Notice.

This notice announces the appointment of the members of the Performance Review Board (PRB) of DFAS. The publication of PRB membership is required by 5 U.S.C. 4314(c)(4).

The PRB provides fair and impartial review of Senior Executive Service performance appraisals and makes recommendations regarding performance ratings and performance awards to the Director, DFAS.

EFFECTIVE DATE: August 17, 2004.

FOR FURTHER INFORMATION CONTACT: Lee Evans, Human Resources Directorate, Defense Finance and Accounting Service, Arlington, Virginia, (703) 607-1468.

SUPPLEMENTARY INFORMATION: In accordance with 5 U.S.C. 4314(c)(4), the following executives are appointed to the DFAS PRB: Brig Gen Jan D. Eakle (Chairperson), Patrick T. Shine, Edward T. Grysavage, Nancy Zmyslinski.

Executives listed will serve a 1-year renewable term effective August 17, 2004.

Dated: July 13, 2004.
L.M. Bynum,
Alternate OSD Federal Register Liaison Officer, Department of Defense.

[FR Doc. 04-16262 Filed 7-16-04; 8:45 am]

BILLING CODE 5001-06-M